DEPARTMENT OF AGRICULTURE

Office of the Secretary

Notice of Appointment to the Advisory Committee on Biotechnology and 21st Century Agriculture

AGENCY: Agricultural Research Service.

ACTION: Notice of appointment to the Advisory Committee on Biotechnology and 21st Century Agriculture.

SUMMARY: The Office of the Secretary of Agriculture announces members appointed to fill 9 vacancies on the Advisory Committee on Biotechnology and 21st Century Agriculture (AC21), in accordance with the Federal Advisory Committee Act. Those appointed are as follows: Richard Crowder, President and Chief Executive Officer, American Seed Trade Association, in Alexandria, Virginia; Duane Grant, Farmer, in Rupert, Idaho; Robert Herdt, Adjunct International Professor of Applied Economics and Management, Cornell University, in Ithaca, New York; Josephine Hunt, Program Manager, Global Science and Regulatory Affairs, Kraft Foods, in Glenview, Illinois; Gregory Jaffe, Director, Biotechnology Project, Center for Science in the Public Interest, in Washington, DC; Patricia Layton, Professor, Department of Forestry and Natural Resources, Clemson University, in Clemson, South Carolina (AC21 Chair); Bradley Shurdut, Global Leader, Government Relations, Regulatory Affairs, and Science Policy, Dow AgroSciences LLC, in Washington, DC; Alison Van Eenennaam, Cooperative Extension Specialist, Department of Animal Science, University of California in Davis, California; and Lisa Zannoni, Director, Global Regulatory Affairs and Government Relations, BASF Corporation, in Research Triangle Park, North Carolina.

DATES: Appointments by the Secretary are for a two-year term, effective April 12, 2005 until April 11, 2007.

FOR FURTHER INFORMATION CONTACT: Michael Schechtman, Designated Federal Official, Office of the Deputy Secretary, USDA, Telephone (202) 720-3817; Fax (202) 690-4265; E-mail mschechtman@ars.usda.gov.

SUPPLEMENTARY INFORMATION: The members of the committee cover a broad range of agricultural disciplines and interests. The duties of the committee are solely advisory. The AC21 is charged with examining the long-term impacts of biotechnology on the U.S. food and agriculture system and USDA, and providing guidance to USDA on pressing individual issues, identified by the Office of the Secretary, related to the application of biotechnology in agriculture.

The AC21 was first appointed in February 2003 and at the time half of the appointments were for a one-year term and half for a two-year term. Due to the staggered appointments, the terms for 9 of the 18 members expired on February 12, 2005. Members of the AC21 may be reappointed by the Secretary of Agriculture but no member may serve more than six consecutive years. Members serve without pay, but with reimbursement of travel expenses and per diem for attendance at AC21 and subcommittee functions for those committee members who require assistance in order to attend the meetings.

Dated: April 29, 2005.
Bernice Slutsky,
Special Assistant to the Secretary for Biotechnology.

[FR Doc. 05-8978 Filed 5-4-05; 8:45 am]

BILLING CODE 3410-02-P